DEPARTMENT OF THE INTERIOR

National Park Service

Concession Contract

AGENCY: National Park Service, Interior.

ACTION: Public notice.

SUMMARY: Public notice is hereby given that the National Park Service proposes to award a temporary concession contract authorizing the operation of food service and sundry merchandise sales facilities and services for the public at Fire Island National Seashore, New York for a term not to exceed October 31, 2001.

EFFECTIVE DATE: July 5, 2001.

ADDRESSES: National Park Service, Boston Support Office, Concession Management Program, 15 State Street, Boston, MA 02109-3572, Telephone (617) 223-5209.

SUPPLEMENTARY INFORMATION: This temporary concession contract is being awarded to the Davis Park Ferry Company, Inc., Patchoque, New York. It is necessary to award the contract in order to avoid interruption of visitor services.

This action is issued pursuant to 36 CFR part 51.24(a). This is not a request for proposals and no prospectus is being issued at this time. The Secretary intends to issue a competitive solicitation for offers for a long-term operator for various services, to begin in 2001. You may be placed on a mailing list for receiving information regarding the competitive solicitation by sending a written request to the above address.

Dated: April 3, 2001.
Sandra S. Corbett,
Acting, Regional Director, Northeast Region.

[FR Doc. 01-13961 Filed 6-1-01; 8:45 am]

BILLING CODE 4310-70-M